NATIONAL ARCHIVES AND RECORDS ADMINISTRATION

[NARA-2020-018]

National Industrial Security Program Policy Advisory Committee (NISPPAC); Meeting

AGENCY: National Archives and Records Administration (NARA).

ACTION: Notice of federal advisory committee meeting.

SUMMARY: We are announcing an upcoming National Industrial Security Program Policy Advisory Committee (NISPPAC) meeting in accordance with the Federal Advisory Committee Act and implementing regulations.

DATES: The meeting will be on March 26, 2020, from 10:00 a.m. to 12:30 p.m. EST.

ADDRESSES: National Archives and Records Administration (NARA); 700 Pennsylvania Avenue NW; William G. McGowan Theater; Washington, DC 20408.

FOR FURTHER INFORMATION CONTACT: Robert Tringali, ISOO Program Analyst, by mail at National Archives and Records Administration; Information Security Oversight Office (ISOO); 700 Pennsylvania Avenue NW; Washington, DC 20408, by telephone at 202.357.5335, or by email at robert.tringali@nara.gov. Contact ISOO at ISOO@nara.gov and the NISPPAC at NISPPAC@nara.gov.

SUPPLEMENTARY INFORMATION: We are holding this meeting in accordance with the Federal Advisory Committee Act (5 U.S.C. app 2) and implementing regulations at 41 CFR 101-6. The Committee will discuss National Industrial Security Program policy matters.

Procedures: This meeting is open to the public. However, due to space limitations and building access procedures, you must submit your name and telephone number to ISOO no later than Friday, March 20, if you wish to attend. (Contact information listed above.) ISOO will provide additional access information for those who register. Note: Please enter through the Constitution Avenue special events entrance.

Miranda J. Andreacchio,
Committee Management Officer.

[FR Doc. 2020-02169 Filed 2-4-20; 8:45 am]

BILLING CODE 7515-01-P